DEPARTMENT OF ENERGY

Federal Energy Regulatory Commission

[Project No. 7518-012—New York]

Erie Boulevard Hydropower L.P.; Notice of Scoping Meetings and Environmental Site Review

November 15, 2010.

Commission staff will be conducting two public scoping meetings and an environmental site review in support of the relicensing proceeding for the Hogansburg Hydroelectric Project (No. 7518), at the times and places noted below. The daytime meeting will focus on resource agency, Indian tribes, and non-governmental organization concerns, while the evening meeting is primarily for receiving input from the public. We invite all interested individuals, organizations, and agencies to attend one or both of the meetings, and to assist staff in identifying particular study needs, as well as the scope of environmental issues to be addressed in the environmental document that Commission staff will prepare in this proceeding.

The times of these meetings are as follows:

Daytime Scoping Meeting

Date: Tuesday, December 14, 2010.

Time: 1 p.m.

Evening Scoping Meeting

Date: Tuesday, December 14, 2010.

Time: 7 p.m.

The location for both meetings is: Wolfclan 37 Hotel, 1450 State Route 37, Hogansburg, NY 13655, Phone: (770) 992-2055.

Commission staff will conduct an environmental site review (site visit) of the project on Tuesday, December 14, 2010, starting at 3 p.m., following the daytime scoping meeting. All participants should meet at the Wolfclan 37 Hotel, 1450 State Route 37, Hogansburg, NY. All participants are responsible for their own transportation. Anyone with questions about the site visit should contact Mr. Steven Murphy of Brookfield Power at (315) 598-6130 on or before December 10, 2010.

Further details about the scoping process and the relicensing of the Hogansburg Project will be provided in a subsequent notice. For additional information, please contact John Mudre of the Commission staff at (202) 502-8902.

Kimberly D. Bose,
Secretary.

[FR Doc. 2010-29315 Filed 11-19-10; 8:45 am]

BILLING CODE 6717-01-P